DEPARTMENT OF STATE

Agency for International Development

Briefing on Partner Vetting System Pilot Program

AGENCY: U.S. Department of State and U.S. Agency for International Development.

ACTION: Notice of briefing.

SUMMARY: Notice is hereby given of a briefing on the Partner Vetting System (PVS) pilot program. The objective of the briefing is to provide information about the PVS pilot program. Members of the public may attend in person or join via teleconference.

Officials from the U.S. Department of State (State) and U.S. Agency for International Development (USAID) will brief on the PVS pilot program. The briefing will be followed by an open forum for discussion where public participation is encouraged. The agenda is subject to change.

DATES: The briefing will take place on Thursday September 8, 2011, from 2:30 p.m.-3:30 p.m. E.D.T.

Registration: Although the briefing is free and open to the public, registration is required for attendance. Please e-mail USAID_RSVP4@usaid.gov to register and receive location or call-in information. Please specify whether you wish to attend in person or call in. As space is limited, members of the public interested in attending in person will be accommodated in order of registrations received.

Dated: August 9, 2011.
Lisa M. Farrell,
Management Analyst, U.S. Department of State, Bureau of Administration, Office of Logistics Management, Office of Risk Analysis and Management.
Dated: August 8, 2011.
David Barth,
Deputy Chief of Staff, U.S. Agency for International Development, Bureau of Legislative and Public Affairs.

[FR Doc. 2011-20771 Filed 8-15-11; 8:45 am]

BILLING CODE P